DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held March 17, 2011 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Program Management Committee meeting. The agenda will include:

• Opening Plenary (Welcome and Introductions).

• Review/Approve Summary of December 8, 2011 PMC meeting, RTCA Paper No. 025-11/PMC-861.

• Publication Consideration/Approval.

• Final Draft, Revised DO-181-D, Minimum Operational Performance Standards for Air Traffic Control Radar Beacon Systems/Mode Select (ACTRBS/Mode S) Airborne Equipment, RTCA Paper No. 027-11/PMC-863, prepared by SC-209.

• Final Draft, Change 1 to DO-306, Safety and Performance Standard for Air Traffic Data Link Services in Oceanic and Remote Airspace (Oceanic SPR Standard), RTCA Paper No. 034-11/PMC-865, prepared by SC-214.

• Integration and Coordination Committee (ICC)—Status Report.

• Action Item Review.

• SC-216—Aeronautical Systems Security Discussion, Review, and Approve Revised Terms of Reference.

• SC-217/WG-44, Terrain and Airport Databases, Discussion, Review, and Approve Revised Terms of Reference.

• MASPS/MOPS/SPR/Concepts—Discussion.

• Discussion.

• Aircraft Audio Systems and Equipment Discussion of Possible New Special Committee to Revise DO-214.

• SC-222—Inmarsat AMS(R)S—Discussion, Review/Approve Revised Terms of Reference.

• SC-203—Unmanned Aircraft Systems, Discussion MASPS and MOPS Schedules.

• SC-159—Global Positioning Systems, Discussion and Potential Interference, 4 G Network.

• SC-223—Airport Surface Wireless Communications Discussion and Status—

• FAA Market Survey on Next Generation TCAS Discussion.

• Special Committees Chairmen's Reports and Meeting Management.

• Closing Plenary (Other Business, Document Production and PMC Meeting Schedule Meeting, Adjourned).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, February 28, 2011.
Kathy Hitt,
RTCA Advisory Committee.

[FR Doc. 2011-4774 Filed 3-2-11; 8:45 am]

BILLING CODE 4910-13-P